DEPARTMENT OF ENERGY

Federal Energy Regulatory Commission

[Docket No. EL00-95-001, Docket No. ER02-1656-001]

San Diego Gas and Electric Company, Complainant v. Sellers of Energy and Ancillary Services Into Markets Operated by the California Independent System Operator and the California Power Exchange, Respondents; California Independent System Operator Corporation; Notice Shortening Answer Period

May 29, 2002.

On May 21, 2002, the California Independent System Operator Corporation (ISO) filed an errata to its proposals for a Comprehensive Market Redesign originally filed on May 1, 2002. On May 24, 2002, the Commission issued a Notice of Filing that set the comment date as June 11, 2002 on Cal ISO's errata filing. By this notice, the period for filing answers to Cal ISO's errata is hereby shortened to and including June 4, 2002.

Linwood A. Watson, Jr.,
Deputy Secretary.

[FR Doc. 02-13913 Filed 5-31-02; 8:45 am]

BILLING CODE 6717-01-P